DEPARTMENT OF HOMELAND SECURITY

Coast Guard

33 CFR Part 110

[Docket No. USCG-2016-0916]

RIN 1625-AA01

Anchorages; Captain of the Port Puget Sound Zone, WA; Supplemental Notice of Tribal Consultation

AGENCY: Coast Guard, DHS.

ACTION: Notice of location of tribal consultation.

SUMMARY: On June 1, 2017, the Coast Guard published a notification of tribal consultation regarding government to government consultation on a notice of proposed rulemaking entitled “Anchorages; Captain of the Port Puget Sound Zone, WA.” As stated in that notification, the address of the tribal consultation was to be determined. The tribal consultation will take place in Suquamish, WA. As before, the Coast Guard encourages all interested tribes to R.S.V.P. to the formal consultation to be held on July 13, 2017, and provide information on which treaty rights are impacted and how the Coast Guard should consider these rights in its rulemaking analysis.

DATES: A formal government to government consultation is scheduled to be held on July 13, 2017, from 9 a.m. to 3 p.m. to provide an opportunity for oral comments. R.S.V.P.s to the consultation must be submitted by June 30, 2017, to the person listed below at FOR FURTHER INFORMATION CONTACT. Written comments and related material may also be submitted to Coast Guard personnel specified at that meeting. The comment period for the proposed rule closes on August 9, 2017. All comments and related material submitted after the meeting must be received by the Coast Guard on or before August 9, 2017.

ADDRESSES: The consultation will take place at the Suquamish Tribe's House of Awakened Culture, 7235 NE Parkway, Suquamish, WA 98392.

You may submit written comments identified by docket number USCG-2016-0916 using the Federal eRulemaking Portal at http://www.regulations.gov.

FOR FURTHER INFORMATION CONTACT: If you have questions concerning the meeting or the proposed rule, please call or email Mr. Laird Hail, U.S. Coast Guard Sector Puget Sound; telephone 206-217-6051, email SectorPugetSoundWWM@uscg.mil.

SUPPLEMENTARY INFORMATION:

Background and Purpose

On June 1, 2017, we published a notification of tribal consultation (82 FR 25207) related to the notice of proposed rulemaking (NPRM) titled “Anchorages; Captain of the Port Puget Sound Zone, WA,” that we published February 10, 2017 (82 FR 10313). In May 2017 (82 FR 22448, May 16, 2017), we reopened the comment period on the NPRM, which is now set to close on August 9, 2017.

In the June 1, 2017 notification, we identified the scheduled date and time of the tribal consultation as July 13, 2017, from 9 a.m. to 3 p.m., but we did not provide the address. We are publishing this document to provide you with the location of the tribal consultation.

You may view the NPRM in our online docket, in addition to supporting documents prepared by the Coast Guard—for example, environmental checklist, and comments submitted thus far by going to http://www.regulations.gov. Once there, insert “USCG-2016-0916” in the “Keyword” box and click “Search.”

We encourage all interested tribes to participate in this formal consultation by responding orally at the consultation or in writing. If you bring written comments to the formal consultation, you may submit them to Coast Guard personnel specified at the meeting to receive written comments. These comments will be submitted to our online public docket. All comments received will be posted without change to http://www.regulations.gov and will include any personal information you have provided. For more about privacy and the docket, visit http://www.regulations.gov/privacyNotice. We will also provide a written summary of the government to government tribal consultation and comments and will place that summary in the docket.

Comments submitted after the meeting must reach the Coast Guard on or before August 9, 2017. We encourage you to submit comments through the Federal eRulemaking Portal at http://www.regulations.gov. If your material cannot be submitted using http://www.regulations.gov, contact the person in the FOR FURTHER INFORMATION CONTACT section of this document for alternate instructions.

Information on Service for Individuals With Disabilities

For information on facilities or services for individuals with disabilities or to request special assistance at the tribal consultation, contact at Mr. Laird Hail at the telephone number or email address indicated under the FOR FURTHER INFORMATION CONTACT section of this notice.

Tribal Government to Government Consultation

The Coast Guard will hold a formal tribal government to government consultation regarding its proposed rule on Thursday, July 13, 2017, from 9 a.m. to 3 p.m. at the Suquamish Tribe's House of Awakened Culture, 7235 NE Parkway, Suquamish, WA 98392. We request that tribes intending to participate in this consultation submit the following information to the person in the FOR FURTHER INFORMATION CONTACT section of this document by June 30, 2017: (1) Whether the tribe will attend the face-to-face tribal consultation, (2) the name and contact information of anyone other than the Chief Executive of the tribe that is authorized to engage in government to government consultation with the Coast Guard for this tribal consultation, and (3) any proposed agenda items and written materials it intends to present. We will also provide a written summary of the government to government tribal consultation and comments and will place that summary in the docket. Members of the public will have time to submit further comments between the posting of the summary of the tribal consultation and the closing of the comment period on August 9, 2017.

Dated: June 12, 2017.
D.G. Throop,
Rear Admiral, U.S. Coast Guard, Commander, Thirteenth Coast Guard District.

[FR Doc. 2017-12494 Filed 6-15-17; 8:45 am]

BILLING CODE 9110-04-P